DEPARTMENT OF TRANSPORTATION

Federal Aviation Administration

Notice of Intent To Rule on Request To Release Airport Property at the Plains Airport, Plains, MT.

AGENCY: Federal Aviation Administration (FAA), DOT.

ACTION: Notice of Request to Release Airport Property.

SUMMARY: The FAA proposes to rule and invite public comment on the release of land at Plains Airport under the provisions of 49 U.S.C. 47107(h)(2).

DATES: Comments must be received on or before December 10, 2010.

ADDRESSES: Comments on this application may be mailed or delivered to the FAA at the following address: Mr. David S. Stelling, Manager, Federal Aviation Administration, Northwest Mountain Region, Airports Division, Helena Airports District Office, 2725 Skyway Drive, Suite 2, Helena, Montana 59602.

In addition, one copy of any comments submitted to the FAA must be mailed or delivered to Ms. Carol Brooker, Chair, Sanders County Commission, at the following address: Ms. Carol Brooker, Commissioner, Sanders County Commission, 1111 Main Street, Thompson Falls, MT 59873.

FOR FURTHER INFORMATION CONTACT: Mr. Gary M. Gates, Airport Planner/Engineer, Federal Aviation Administration, Northwest Mountain Region, Airports Division, Helena Airports District Office, 2725 Skyway Drive, Suite 2, Helena, Montana 59602.

The request to release property may be reviewed, by appointment, in person at this same location.

SUPPLEMENTARY INFORMATION: The FAA invites public comment on the request to release property at the Plains Airport under the provisions of 49 U.S.C. 47107(h)(2).

On August 12, the FAA determined that the request to release property at Plains Airport submitted by the airport meets the procedural requirements of the Federal Aviation Administration. The FAA may approve the request, in whole or in part, no later than December 10, 2010.

The following is a brief overview of the request:

Plains Airport is proposing the release of approximately 3.75 acres of non-aeronautical airport property to an adjacent land owner in order to conclude on-going land negotiations. The Airport Sponsor will receive fair market value for the property, which will be subsequently reinvested in eligible airport improvement projects.

Any person may inspect, by appointment, the request in person at the FAA office listed above under FOR FURTHER INFORMATION CONTACT.

In addition, any person may, upon appointment and request, inspect the application, notice and other documents germane to the application in person at Plains Airport.

Issued in Helena, Montana, on November 2, 2010.
Gary M. Gates,
Acting Manager, Helena Airports District Office.

[FR Doc. 2010-28310 Filed 11-9-10; 8:45 am]

BILLING CODE 4910-13-P